DEPARTMENT OF JUSTICE

Notice of Lodging of Consent Decree; Under the Comprehensive Environmental Response, Compensation, and Liability Act (“CERCLA”)

Notice is hereby given that on July 1, 2010, a proposed Consent Decree in the United States v. CSX Transportation, Inc., Civil Action No. 2:10-cv-418-FtM-29SPC, was lodged with the United States District Court for the Middle District of Florida, Ft. Myers Division.

In this action the United States sought judgment against defendant in favor of the United State for all previously un-reimbursed costs incurred by the United States in response to the release or threatened release of hazardous substances at Nocatee Hull Creosote Superfund Site (the “Site”). The Site is comprised of three separate areas: A 38 acre former creosote wood treatment “Plant Area” located on the west side of Hull Avenue, a 35 acre portion of the adjacent “Peace River Flood Plain Area” to the west, and a 63 acre rural residential “Oak Creek Area” on the east side of Hull Avenue in Hull, Desoto County, FL.

Under the terms of the Consent Decree, CSX will undertake the remedial action selected by the United States Environmental Agency for the Site. Further, the terms of the Consent Decree require CSX to reimburse the United States for past costs, all future oversight costs, plus interest, incurred or to be incurred in the future by the government in connection with the remedial action at the Site.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. CSX Transportation, Inc., D.J. Ref. 90-11-3-09690.

The Consent Decree may be examined at the Office of the United States Attorney, Middle District of Florida, 2110 First Street, Suite 3-137, Ft. Myers, Florida 33901, and at the U.S. EPA Region 4, 61 Forsyth Street, SW., Atlanta, Georgia 30303. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $13.25 (25 cents per page reproduction cost) for a copy of the Consent Decree without appendices, or $65.75 (25 cents per page reproduction cost) for a copy of the Consent Decree including appendices, payable to the U.S. Treasury or, if by e-mail or fax, forward a check in that amount to the Consent Decree Library at the stated address.

Maureen Katz,
Assistant Chief, Environmental Enforcement Section, Environment and Natural Resources Division.

[FR Doc. 2010-16679 Filed 7-7-10; 8:45 am]

BILLING CODE 4410-15-P